ENVIRONMENTAL PROTECTION AGENCY

40 CFR Parts 239 and 258

[EPA-EPA-R10-RCRA-2010-0953; FRL-9247-5]

Alaska: Adequacy of Alaska's Municipal Solid Waste Landfill Permit Program

AGENCY: Environmental Protection Agency (EPA).

ACTION: Proposed rule.

SUMMARY: EPA Region 10 proposes to approve Alaska's modification of its approved Municipal Solid Waste Landfill (MSWLF) permit program. On March 22, 2004, EPA issued final regulations allowing Research, Development, and Demonstration (RD&D) permits to be issued to certain MSWLFs by approved states. On September 7, 2010 Alaska submitted an application to EPA Region 10 seeking Federal approval of its RD&D requirements.

DATES: Comments on this proposed action must be received in writing on or before February 3, 2011.

ADDRESSES: Submit your comments, identified by Docket ID No. EPA-R10-RCRA-2010-0953, by one of the following methods:

• http://www.regulations.gov: Follow the on-line instructions for submitting comments.

• E-mail: calabro.domenic@epa.gov.

• Fax: (206) 553-6640, to the attention of Domenic Calabro

• Mail: Send written comments to Domenic Calabro, Office of Air, Waste, and Toxics, U.S. EPA, Region 10, 1200 Sixth Avenue, Suite 900, Mailstop: AWT-122, Seattle, WA 98101.

• Hand Delivery or Courier: Deliver your comments to: Domenic Calabro, Office of Air, Waste, and Toxics, U.S. EPA, Region 10, 1200 Sixth Avenue, Suite 900, Mailstop: AWT-122, Seattle, WA 98101. Such deliveries are only accepted during the Office's normal hours of operation.

For detailed instructions on how to submit comments, please see the direct final rule which is located in the Rules section of this Federal Register.

FOR FURTHER INFORMATION CONTACT: Domenic Calabro at (206) 553-6640 or by e-mail at calabro.domenic@epa.gov.

SUPPLEMENTARY INFORMATION: In the Rules section of this Federal Register, EPA is approving Alaska's Research, Development, and Demonstration (RD&D) permit program through a direct final rule without prior proposal because the Agency views this as a noncontroversial action and anticipates no adverse comments to this action. Unless we get written adverse comments which oppose this approval during the comment period, the direct final rule will become effective on the date it establishes, and we will not take further action on this proposal. If EPA receives written adverse comments, the direct final rule will be withdrawn and all public comments received will be addressed in a subsequent final rule. EPA will not institute a second comment period on this action. Any parties interested in commenting on this action should do so at this time. For additional information, see the direct final rule which is located in the Rules section of this Federal Register.

Dated: December 22, 2010.
Dennis J. McLerran,
Regional Administrator, EPA Region 10.

[FR Doc. 2010-33195 Filed 1-3-11; 8:45 am]

BILLING CODE 6560-50-P